NATIONAL AERONAUTICS AND SPACE ADMINISTRATION

14 CFR Part 1204

RIN 2700-AC38

Inspection of Persons and Personal Effects at NASA Installations or on NASA Property; Trespass or Unauthorized Introduction of Weapons or Dangerous Materials

AGENCY: National Aeronautics and Space Administration (NASA).

ACTION: Final rule.

SUMMARY: NASA published on January 19, 2000 an “Interim rule with request for comments,” titled “Inspection of Persons and Personal Effects on NASA Property.” NASA received and considered one letter in response to the request for comments on the interim rule. Consequently, the interim rule was further clarified as noted below. Accordingly, Subpart 10 of 14 CFR Part 1204 is retitled “Inspection of Persons and Personal Effects at NASA Installations or on NASA Property; Trespass or Unauthorized Introduction of Weapons or Dangerous Materials.” In addition, language is added to clarify that the updated regulation merely reflects current Federal policy and NASA practice of upgraded security measures; and a new introductory statement is provided before reciting the provision of 18 U.S.C. Section 799.

To avoid confusion and for ease of reference, Subpart 10 of 14 CFR Part 1204—“Inspection of Persons and Personal Effects at NASA Installations or on NASA Property; Trespass or Unauthorized Introduction of Weapons or Dangerous Materials”—is republished in its entirety as a Final rule.

DATES: Effective Date: This rule is effective August 3, 2000.

ADDRESSES: NASA Security Management Office, Code JS, NASA Headquarters, Washington, DC 20546.

FOR FURTHER INFORMATION CONTACT: Mark R.J. Borsi, 202-358-2457.

SUPPLEMENTARY INFORMATION: This action revises Subpart 10 of 14 CFR part 1204 to update the regulation consistent with current Federal policy and Agency practice.

The National Aeronautics and Space Administration has determined that:

1. This rule is not subject to the requirements of the Regulatory Flexibility Act, 5 U.S.C. 601-612, since it will not exert a significant economic impact on a substantial number of small entities.

2. This rule is not a major rule as defined in Executive Order 12866.

List of Subjects in 14 CFR Part 1204

Conduct, Dangerous materials, Employees, Explosives, Facilities, Federal buildings, Firearms, Inspections, Installations, Persons, Property, Real estate, Security, Trespass, Weapons.

For reasons set out in the Preamble, 14 CFR part 1204 is amended as follows:

PART 1204—ADMINISTRATIVE AUTHORITY AND POLICY

1. 14 CFR part 1204, Subpart 10 is revised to read as follows:

Subpart 10—Inspection of Persons and Personal Effects at NASA Installations or on NASA Property; Trespass or Unauthorized Introduction of Weapons or Dangerous Materials

Sec.:
1204.1000 Scope of subpart.
1204.1001 Policy.
1204.1002 Responsibility.
1204.1003 Procedures.
1204.1004 Trespass.
1204.1005 Unauthorized introduction of firearms or weapons, explosives, or other dangerous materials.
1204.1006 Violations.

Subpart 10—Inspection of Persons and Personal Effects at NASA Installations or on NASA Property; Trespass or Unauthorized Introduction of Weapons or Dangerous Materials

Authority: 42 U.S.C. 2455.

§ 1204.1000 Scope of subpart.

This subpart establishes NASA policy and prescribes minimum procedures concerning the inspection of persons and property in their possession while entering, or on, or exiting NASA real property or installations (including NASA Headquarters, Centers, or Component Facilities). In addition, it proscribes unauthorized entry or the unauthorized introduction of weapons or other dangerous instruments or materials at any NASA installation.

§ 1204.1001 Policy.

(a) In the interest of national security, NASA will provide appropriate and adequate protection or security for personnel, property, installations (including NASA Headquarters, Centers, and Component Facilities), and information in its possession or custody. In furtherance of this policy, NASA reserves the right to conduct an inspection of any person, including any property in the person's possession or control, as a condition of admission to, continued presence on, or exiting from, any NASA installation.

(b) It is determined that this policy is intended to comply with the heightened security measures for installations owned or occupied by Federal agencies (in this case NASA), to mitigate threats to such installations and to better protect the persons and property thereon.

§ 1204.1002 Responsibility.

The NASA Center Directors and the Associate Administrator for Headquarters Operations are responsible for implementing the provisions of this subpart. In implementing this subpart, these officials will coordinate their action with appropriate officials of other affected agencies.

§ 1204.1003 Procedures.

(a) All entrances to NASA real property or installations (including NASA Headquarters, Centers, or Component Facilities) will be conspicuously posted with the following notices:

(1) CONSENT TO INSPECTION: Your entry into, continued presence on, or exit from, this installation is contingent upon your consent to inspection of person and property.

(2) UNAUTHORIZED INTRODUCTION OF WEAPONS OR DANGEROUS MATERIALS IS PROHIBITED: Unless specifically authorized by NASA, you may not carry, transport, introduce, store, or use firearms or other dangerous weapons, explosives or other incendiary devices, or other dangerous instrument or material likely to produce substantial injury or damage to persons or property.

(b) Only NASA security personnel or members of the installation's uniformed security force will conduct inspections pursuant to this subpart. Such inspections will be conducted in accordance with guidelines established by the Director, Security Management Office, NASA Headquarters.

(c) If an individual does not consent to an inspection, it will not be conducted, but the individual will be denied admission to, or be escorted off the installation.

(d) If, during an inspection, an individual is found to be in unauthorized possession of items believed to represent a threat to the safety or security of the installation, the individual will be denied admission to or be escorted off the installation, and appropriate law enforcement authorities will be notified immediately.

(e) If, during an inspection conducted pursuant to this subpart, an individual is in possession of U.S. Government property without proper authorization, that person will be required to relinquish the property to the security representative pending proper authorization for the possession of the property or its removal from the installation. The individual relinquishing the property will be provided with a receipt for the property.

§ 1204.1004 Trespass.

Unauthorized entry upon any NASA real property or installation is prohibited.

§ 1204.1005 Unauthorized introduction of firearms or weapons, explosives, or other dangerous materials.

(a) The unauthorized carrying, transporting, or otherwise introducing or causing to be introduced, or using firearms or other dangerous weapons, explosives or other incendiary devices, or other dangerous instrument, substance, or material likely to produce substantial injury or damage to persons or property, into or upon NASA real property, facility, or installation, is prohibited.

(b) Paragraph (a) of this section shall not apply to:

(1) The lawful performance of official duties by an officer, agent, or employee of the United States, a State, or a political subdivision thereof, or NASA contractor, who is authorized to carry firearms or other material covered by paragraph (a) of this section.

(2) The lawful carrying of firearms or other dangerous weapons at or on a NASA installation after written prior approval has been obtained from the installation Security Office in connection with sanctioned hunting, range practice, or other lawful purpose.

§ 1204.1006 Violations.

Please take notice that anyone violating these regulations may be cited for violating Title 18 of the United States Code (U.S.C.) Section 799, which states that whoever willfully shall violate, attempt to violate, or conspire to violate any regulation or order promulgated by the Administrator of the National Aeronautics and Space Administration for the protection or security of any laboratory, station, base or other facility, or part thereof, or any aircraft, missile, spacecraft, or similar vehicle, or part thereof, or other property or equipment in the custody of the Administration [NASA], or any real or personal property or equipment in the custody of any contractor under any contract with the Administration or any subcontractor of any such contractor, shall be fined under this title [Title 18], or imprisoned not more than one year, or both.

Daniel S. Goldin,
Administrator.

[FR Doc. 00-19622 Filed 8-2-00; 8:45 am]

BILLING CODE 7510-01-U